DEPARTMENT OF TRANSPORTATION

Federal Railroad Administration

[Docket Numbers FRA-2010-0028, -0029, -0039, -0042, -0043, -0045, -0048, -0051, -0054, -0056, -0057, -0058, -0059, -0060, -0061, -0062, -0064, -0065, and -0070]

Railroads' Requests To Amend Their Positive Train Control Safety Plans and Positive Train Control Systems

AGENCY: Federal Railroad Administration (FRA), Department of Transportation (DOT).

ACTION: Notice of availability and request for comments.

SUMMARY: This document provides the public with notice that nineteen host railroads recently submitted requests for amendments (RFA) to their FRA-approved Positive Train Control Safety Plans (PTCSP). As these RFAs may involve requests for FRA's approval of proposed material modifications to FRA-certified positive train control (PTC) systems, FRA is publishing this notice and inviting public comment on railroads' RFAs to their PTCSPs.

DATES: FRA will consider comments received by August 16, 2021. FRA may consider comments received after that date to the extent practicable and without delaying implementation of valuable or necessary modifications to PTC systems.

ADDRESSES:

Comments: Comments may be submitted by going to https://www.regulations.gov and following the online instructions for submitting comments.

Instructions: All submissions must include the agency name and the applicable docket number. The relevant PTC docket numbers for the host railroads that filed RFAs to their PTCSPs are cited above and in the Supplementary Information section of this notice. For convenience, all active PTC dockets are hyperlinked on FRA's website at https://railroads.dot.gov/train-control/ptc/ptc-annual-and-quarterly-reports. All comments received will be posted without change to https://www.regulations.gov; this includes any personal information.

FOR FURTHER INFORMATION CONTACT: Gabe Neal, Deputy Staff Director, Signal, Train Control, and Crossings Division, telephone: 816-516-7168, email: Gabe.Neal@dot.gov.

SUPPLEMENTARY INFORMATION: In general, Title 49 United States Code (U.S.C.) Section 20157(h) requires FRA to certify that a host railroad's PTC system complies with 49 CFR part 236, subpart I, before the technology may be operated in revenue service. Before making certain changes to an FRA-certified PTC system or the associated FRA-approved PTCSP, a host railroad must submit, and obtain FRA's approval of, an RFA to its PTCSP under Title 49 Code of Federal Regulations (CFR) Section 236.1021.

Under 49 CFR 236.1021(e), FRA's regulations provide that FRA will publish a notice in the Federal Register and invite public comment in accordance with 49 CFR part 211, if an RFA includes a request for approval of a material modification of a signal and train control system. Accordingly, this notice informs the public that host railroads' recent RFAs to their PTCSPs are available in their respective public PTC dockets, and this notice provides an opportunity for public comment on these RFAs.

On July 16, 2021, the following 19 host railroads jointly submitted an RFA to their respective PTCSPs for their Interoperable Electronic Train Management Systems (I-ETMS): Alaska Railroad Corporation (ARR), The Belt Railway Company of Chicago (BRC), BNSF Railway (BNSF), Peninsula Corridor Joint Powers Board (PCMZ), Canadian National Railway (CN), Canadian Pacific Railway (CP), Consolidated Rail Corporation (CRSH), CSX Transportation, Inc. (CSX), Kansas City Terminal Railway (KCT), Kansas City Southern Railway (KCS), National Passenger Railroad Corporation (Amtrak), New Mexico Rail Runner Express (NMRX), Northeast Illinois Regional Commuter Railroad Corporation (Metra), Northern Indiana Commuter Transportation District (NICD), Norfolk Southern Railway (NS), South Florida Regional Transportation Authority (SFRV), Southern California Regional Rail Authority (Metrolink), Terminal Railroad Association of St. Louis, and Union Pacific Railroad (UP). Their joint RFA is available in Docket Numbers FRA-2010-0028, -0029, -0039, -0042, -0043, -0045, -0048, -0051, -0054, -0056, -0057, -0058, -0059, -0060, -0061, -0062, -0064, -0065, and -0070.

Interested parties are invited to comment on any RFAs to railroads' PTCSPs by submitting written comments or data. During FRA's review of railroads' RFAs, FRA will consider any comments or data submitted within the timeline specified in this notice and to the extent practicable, without delaying implementation of valuable or necessary modifications to PTC systems. See 49 CFR 236.1021; see also 49 CFR 236.1011(e). Under 49 CFR 236.1021, FRA maintains the authority to approve, approve with conditions, or deny railroads' RFAs to their PTCSPs at FRA's sole discretion.

Privacy Act Notice

In accordance with 49 CFR 211.3, FRA solicits comments from the public to better inform its decisions. DOT posts these comments, without edit, including any personal information the commenter provides, to https://www.regulations.gov, as described in the system of records notice (DOT/ALL-14 FDMS), which can be reviewed at https://www.transportation.gov/privacy. See https://www.regulations.gov/privacy-notice for the privacy notice of regulations.gov. To facilitate comment tracking, we encourage commenters to provide their name, or the name of their organization; however, submission of names is completely optional. If you wish to provide comments containing proprietary or confidential information, please contact FRA for alternate submission instructions.

Issued in Washington, DC.
Carolyn R. Hayward-Williams,
Director, Office of Railroad Systems and Technology.

[FR Doc. 2021-15973 Filed 7-26-21; 8:45 am]

BILLING CODE 4910-06-P